ENVIRONMENTAL PROTECTION AGENCY

40 CFR Part 63

[OAR-2003-0003; FRL-7957-7]

RIN 2060-AM23

National Emissions Standards for Hazardous Air Pollutants: Reinforced Plastic Composites Production

AGENCY: Environmental Protection Agency (EPA).

ACTION: Direct final rule; amendments.

SUMMARY: The EPA is taking direct final action on amendments to the national emissions standards for hazardous air pollutants (NESHAP) for reinforced plastic composites production which were issued April 12, 2003, under section 112 of the Clean Air Act (CAA). The direct final amendments revise compliance options for open molding, correct errors, and add clarification to sections of the rule. We are issuing the amendments as a direct final rule, without prior proposal, because we view the revisions as noncontroversial and anticipate no adverse comments. However, in the Proposed Rules section of this Federal Register notice, we are publishing a separate document that will serve as the proposal to amend the NESHAP for reinforced plastic composites production if adverse comments are filed.

DATES: The direct final rule is effective on October 24, 2005 without further notice, unless EPA receives adverse written comment by September 26, 2005 or if a public hearing is requested by September 6, 2005. If adverse comments are received, EPA will publish a timely withdrawal in the Federal Register indicating which provisions will become effective and which provisions are being withdrawn due to adverse comment.

ADDRESSES: Submit your comments, identified by Docket ID No. OAR-2003-0003, by one of the following methods:

• Federal eRulemaking Portal: http://www.regulations.gov. Follow the on-line instructions for submitting comments.

• Agency Web site: http://www.epa.gov/edocket. EDOCKET, EPA's electronic public docket and comment system, is EPA's preferred method for receiving comments. Follow the on-line instructions for submitting comments.

• E-mail: a-and-r-docket@epa.gov and barnett.keith@epa.gov.

• Fax: (202) 566-1741 and (919) 541-5600.

• Mail: U.S. Postal Service, send comments to: HQ EPA Docket Center (6102T), Attention Docket ID No. OAR-2003-0003, 1200 Pennsylvania Avenue, NW., Washington, DC 20460. Please include a total of two copies. We request that you also send a separate copy of each comment to the contact person listed below (see FOR FURTHER INFORMATION CONTACT).

• Hand Delivery: In person or by courier, deliver comments to: HQ EPA Docket Center (6102T), Attention Docket ID No. OAR-2003-0003, 1301 Constitution Avenue, NW., Room B-108, Washington, DC 20004. Such deliveries are only accepted during the Docket's normal hours of operation, and special arrangements should be made for deliveries of boxed information. Please include a total of two copies.

Instructions: Direct your comments to Docket ID No. OAR-2003-0003. The EPA's policy is that all comments received will be included in the public docket without change and may be made available online at http://www.epa.gov/edocket, including any personal information provided, unless the comment includes information claimed to be confidential business information (CBI) or other information whose disclosure is restricted by statute. Do not submit information that you consider to be CBI or otherwise protected through EDOCKET, regulations.gov, or e-mail. Send or deliver information identified as CBI only to the following address: Mr. Roberto Morales, OAQPS Document Control Officer, EPA (C404-02), Attention Docket ID No. OAR-2003-0003, Research Triangle Park, NC 27711. Clearly mark the part or all of the information that you claim to be CBI. The EPA EDOCKET and the Federal regulations.gov Web sites are “anonymous access” systems, which means EPA will not know your identity or contact information unless you provide it in the body of your comment. If you send an e-mail comment directly to EPA without going through EDOCKET or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit EDOCKET on-line or see the Federal Register of May 31, 2002 (67 FR 38102).

Docket: All documents in the docket are listed in the EDOCKET index at http://www.epa.gov/edocket. Although listed in the index, some information is not publicly available, i.e., CBI or other information whose disclosure is restricted by statute. Certain other material, such as copyrighted material, is not placed on the Internet and will be publicly available only in hard copy form. Publicly available docket materials are available either electronically in EDOCKET or in hardcopy at the HQ EPA Docket Center, Docket ID No. OAR-2003-0003, EPA West Building, Room B-102, 1301 Constitution Ave., NW., Washington, DC. The Public Reading Room is open from 8:30 a.m. to 4:30 p.m., Monday through Friday, excluding legal holidays. The telephone number for the Public Reading Room is (202) 566-1744, and the telephone number for the HQ EPA Docket Center is (202) 566-1742. A reasonable fee may be charged for copying docket materials.

FOR FURTHER INFORMATION CONTACT: For further information contact Mr. Keith Barnett, EPA, Office of Air Quality Planning and Standards, Emission Standards Division, Minerals and Inorganic Chemicals Group (C504-05), Research Triangle Park, North Carolina 27711; telephone number (919) 541-5605; fax number (919) 541-5600; e-mail address: barnett.keith@epa.gov.

SUPPLEMENTARY INFORMATION: Regulated Entities. Categories and entities potentially regulated by this action include:

Category | NAICS code¹ | Examples of regulated entities
Industry | 325211, 326122, 325991, 326191, 327991, 327993, 332998, 33312, 33651, 335311, 335313, 335312, 33422, 336211, 336112, 336211, 33651, 33635, 336399, 33612, 336213, 336413; and 336214 | Reinforced plastic composites production facilities that manufacture intermediate and/or final products using styrene containing thermoset resins and gel coats.
Federal Government |  | Federally owned facilities that manufacture intermediate and/or final products using styrene containing thermoset resins and gel coats.
¹ North American Industry Classification System.

This table is not intended to be exhaustive, but rather provides a guide for readers regarding entities likely to be regulated by this action. To determine whether your facility is regulated by this action, you should examine the applicability criteria in 40 CFR 63.5785 and 40 CFR 63.5787 of the final NESHAP. If you have any questions regarding the applicability of this action to a particular entity, consult the person listed in the preceding FOR FURTHER INFORMATION CONTACT section.

Worldwide Web (WWW). In addition to being available in the docket, an electronic copy of today's final NESHAP will also be available on the WWW through the Technology Transfer Network (TTN). Following the Administrator's signature, a copy of the NESHAP will be posted on the TTN's policy and guidance page for newly proposed or promulgated rules at http://www.epa.gov/ttn/oarpg/. The TTN provides information and technology exchange in various areas of air pollution control.

Comments. We are publishing the direct final rule amendments without prior proposal because we view the amendments as noncontroversial and do not anticipate adverse comments. However, in the Proposed Rules section of this Federal Register notice, we are publishing a separate document that will serve as the proposal to amend the NESHAP for reinforced plastic composites production if adverse comments are filed. If we receive any adverse comments on one or more distinct amendments, we will publish a timely withdrawal in the Federal Register informing the public which provisions will become effective, and which provisions are being withdrawn due to adverse comment. We will address all public comments in a subsequent final rule, should the Agency determine to issue one. Any of the distinct amendments in today's direct final rule for which we do not receive adverse comment will become effective on the previously mentioned date. We will not institute a second comment period on the direct final rule amendments. Any parties interested in commenting must do so at this time.

Judicial Review. Under section 307(b)(1) of the CAA, judicial review of the direct final rule amendments is available only by filing a petition for review in the U.S. Court of Appeals for the District of Columbia Circuit by October 24, 2005. Under section 307(d)(7)(B) of the CAA, only an objection to the direct final rule amendments that was raised with reasonable specificity during the period for public comment can be raised during judicial review. Moreover, under section 307(b)(2) of the CAA, the requirements established by the direct final rule amendments may not be challenged separately in any civil or criminal proceeding brought by EPA to enforce these requirements.

Outline. The information presented in this preamble is organized as follows:

I. Background

II. Amendments to 40 CFR Part 63, Subpart WWWW

III. Statutory and Executive Order Reviews

A. Executive Order 12866, Regulatory Planning and Review

B. Paperwork Reduction Act

C. Regulatory Flexibility Act

D. Unfunded Mandates Reform Act

E. Executive Order 13132, Federalism

F. Executive Order 13175, Consultation and Coordination With Indian Tribal Governments

G. Executive Order 13045, Protection of Children From Environmental Health Risks and Safety Risks

H. Executive Order 13211, Actions Concerning Regulations that Significantly Affect Energy Supply, Distribution, or Use

I. National Technology Transfer and Advancement Act

J. Congressional Review Act

I. Background

The EPA promulgated NESHAP for reinforced plastic composites production on April 21, 2003. The final rule (40 CFR part 63, subpart WWWW) includes standards for hazardous air pollutants (HAP), as well as monitoring, performance testing, recordkeeping, and reporting requirements related to those standards. After promulgation of the rule, EPA received numerous questions relating to rule interpretation. The questions pointed out minor inconsistencies in some of the tables and the rule language, areas where the rule requirements were not clear, and restrictions that would preclude most facilities using the least burdensome open molding compliance option. Today's action includes direct final rule amendments that resolve inconsistencies, clarify language, and add additional compliance flexibility. None of the amendments will have any discernable effect on the stringency of the rule.

II. Amendments to 40 CFR Part 63, Subpart WWWW

This subpart applies to facilities that manufacture reinforced plastic composites and are located at major sources of hazardous air pollutants. For more information on rule applicability see 40 CFR 63.5785.

The EPA received numerous questions relating to rule requirements for polymer casting and closed molding operations. These operations were mentioned in the rule or rule preamble so it would be clear that they were covered by the rule. However, we did not list any requirements for these operations in the rule, except for compression/injection closed molding which has a work practice requirement. In order to make it clear these operations have no requirements, polymer casting and closed molding operations (except for compression/injection molding) have been added to the list of operations with no requirements in 40 CFR 63.5790(c). We also added language to that paragraph to clarify that though certain operations have no requirements, any requirements that apply to co-located operations are not affected.

A question was raised concerning area sources that commenced construction prior to August 2, 2002, but did not become a major source until after August 2, 2002. The final rule language in 40 CFR 63.5795(a)(2) appears to imply that any area source that became major due to an expansion or other type of construction after August 2, 2002, would be considered a new source because it was not an affected source prior to commencing construction. Our intent was that any existing source would not become a new source as the result of reconstruction. Therefore, we are changing the sentence “You commence construction, and no other reinforced plastic composites production affected source exists at that site” by removing the word affected from the sentence. The new language will now read “You commence construction, and no other reinforced plastic composites production source exists at that site.” Therefore, it will now be clear that an area source that existed prior to August 3, 2002 will not be considered a new source once it becomes major due to an expansion or other type of reconstruction.

In 40 CFR 63.5799, the first sentence of paragraph (a) refers to paragraphs (b) and (d) of 40 CFR 63.5805. Paragraph (b) of 40 CFR 63.5805 discusses existing source requirements. We should have referenced paragraph (c) of 40 CFR 63.5805, which discusses requirements for new facilities. We have changed the rule text to correct this.

Also in 40 CFR 63.5799(b), we included a sentence that stated “If an existing facility has accepted an enforceable permit limit of less than 100 tons per year of HAP, and can demonstrate that they will operate at that level subsequent to the compliance date, then they can be deemed to be below the 100 tons per year (tpy) threshold.” We received a comment that this sentence implies that a facility that used process controls could not use a permit limit of 100 tons per year (tpy) to demonstrate they were below the 100 tpy threshold. Our intent was that any facility that could demonstrate, through its permit requirements, that it would be below the 100 tpy threshold would not have to perform emission calculations. Therefore, we have changed the sentence to read “If an existing facility has accepted an enforceable permit limit that would result in emissions of less than 100 tpy of HAP measured prior to any add-on controls, and can demonstrate that they will operate at that level subsequent to the compliance date, they can be deemed to be below the 100 tpy threshold.” This should make it clear that both restricted operation hours and use of process controls are acceptable methods to demonstrate through permit requirements that the facility will not meet nor exceed the 100 tpy threshold.

We received numerous questions concerning 40 CFR 63.5805, specifically concerning when the 95 percent control requirement applied to existing sources, and which operations were potentially subject to 95 percent control. We have revised the wording of 40 CFR 63.5805 to make it more clear by changing paragraphs (a) and (b). Paragraph 40 CFR 63.5805(a) now discusses only the limits applicable to centrifugal casting and continuous lamination/casting operations, rather that all operations at existing sources. Paragraph 40 CFR 63.5805(b) discusses all operations at existing sources not covered in paragraph 40 CFR 63.5805(a). No requirements have changed as result of this revision.

We received several questions relating to the values for the highest organic HAP content for compliant materials shown in Table 3 to subpart WWWW of part 63. In one case, a local regulatory agency wanted to write the organic HAP limits in Table 3 to subpart WWWW as absolute permit limits. In another case, someone interpreted the organic HAP limits as absolute limits not to be exceeded.

The purpose of the highest organic HAP content for compliant materials shown in Table 3 to subpart WWWW was only to provide examples of compliant materials, and these values are not emission limits or HAP content limits. The actual emission limits are the pounds per ton (lb/ton) limits in the third column of Table 3 to subpart WWWW. If you meet the lb/ton limits in the third column of Table 3 to subpart WWWW, you are in compliance, regardless of the HAP content of the resin or gel coat.

In order to clarify our intent, we have removed the fourth column from Table 3 to subpart WWWW and reorganized the discussion of compliance options in 40 CFR 63.5810. Paragraph (a) of 40 CFR 63.5810 now covers how to determine if a specific resin or gel coat, as applied, meets its applicable emission limit. Paragraph (b) of 40 CFR 63.5810 covers averaging within each individual combination of operation type and resin application method or gel coat type. Paragraph (c) of 40 CFR 63.5810 covers demonstrating compliance using a weighted average emission limit. Paragraph (d) of 40 CFR 63.5810 covers options where you can meet the organic HAP emissions limit for one resin application method and use the same resin for all application methods of that resin type.

After promulgation, it was pointed out to EPA that for a facility to be able to use the compliant materials compliance option, all materials would have to be compliant. Therefore, even if a facility used numerous resin and gel coats, having one noncompliant material would require all materials be included in some type of averaging. This would not result in any additional emissions reductions, but would increase the amount of reporting and recordkeeping.

A second comment concerned the use of the term “compliant materials.” It was pointed out that it is the combination of a specific resin or gel coat, the application method, and controls that determine compliance, not the resin or gel coat alone. For example, a 38 percent HAP resin applied with nonatomized spray has an emission factor that is below its corresponding emission limit and, therefore, would comply with its applicable emission limit. However, if the same resin is applied manually, its emission factor would be above its corresponding emission limit, and to comply with the rule, this combination of resin and application method would have to be averaged with other operations. This specific resin, as applied, complies in one case, but not the other. Therefore, using the term compliant materials is misleading.

For this reason, we have modified 40 CFR 63.5810 to clarify that when a specific resin or gel coat, as applied, meets the applicable emission limit, then it is in compliance, and we have dropped the term compliant materials from the rule. We are also modifying the rule to allow facilities to both demonstrate compliance for some resins and gel coats using averaging, and that some individual resins and gel coats, as applied, comply with their emission limits. This change will have no impact on the actual rule limits and should result in no change in HAP emissions, but may reduce the required reporting and recordkeeping. We have also revised paragraph (d) of 40 CFR 63.5895, which discusses collecting data to demonstrate continuous compliance, to reflect this change in compliance options. We are limiting this flexibility for a specific resin or gel coat to state that if a specific resin or gel coat is being used in any averaging calculations, then all of that specific resin or gel coat resin must be part of averaging, even if the resin, as applied, would meet its applicable emission limit. You must collect resin use data for any resin or gel coat that is involved in averaging.

In paragraph (a) of 40 CFR 63.5810, we state that you may demonstrate compliance for an individual resin or gel coat based on the HAP content, application method, and any controls that reduce its emission factor. As an example, a non-corrosion resistant/high strength (non-CR/HS) resin with an organic HAP content of 38 percent, applied using nonatomized spray, would have an emission factor of 86 lb/ton calculated using Equation 1.c.i of table 1 to subpart WWWW of part 63. The emission limit for this operation as shown in table 3 to subpart WWWW of part 63 is 88 lb/ton. Therefore, this resin, as applied, complies with its emission limit. If the facility switches to atomized resin application, the emission factor would change to 183 lb/ton, and the resin would not comply with its emission limit.

A second example of demonstrating compliance for an individual resin or gel coat would be a 41 percent HAP resin that contains a vapor suppressant with a vapor suppressant effectiveness factor of 0.5 applied using nonatomized spray. The emission factor calculated using Equation 1.c.i from table 1 to subpart WWWW of part 63 would be 74.2 lb/ton. This is below the emission limit of 88 lb/ton. Therefore, this resin, as applied complies with its emission limit as long as nonatomized mechanical application and vapor suppressant continue to be used.

If a facility required to meet the limits in table 3 to subpart WWWW of part 63 has some type of add-on control, the control efficiency may be used to show compliance. For example, a facility that uses a 35 percent HAP white gel coat with atomized spray has an emission factor of 335.5 lb/ton, which is above the allowable emission limit of 267 lb/ton. Therefore, this gel coat, as applied, does not comply with its emission limit. However, if the facility controlled the gel coat spray booth emissions by 47.5 percent overall (50 percent capture efficiency and 95 percent control), the emission factor would now be 176 lb/ton, and the gel coat does comply. This would require that the facility demonstrate the capture and control efficiency using the appropriate test methods in the NESHAP.

We have also added a paragraph (d)(4) to 40 CFR 63.5810 that states if a facility elects to comply using the option in paragraph (d) of 40 CFR 63.5810 and uses resins that meet the organic HAP limits in table 7 to subpart WWWW of part 63, then those individual resins would be considered to be in compliance, and resin use records are not required.

A commenter stated that some pultrusion machines have multiple preform and pre-wet areas prior to the die. This configuration is incompatible with the language of 40 CFR 63.5830(b)(4) because this language would only be correct for one pre-wet area. Therefore, we have revised the language so multiple preform and pre-wet areas can be used. This change does not affect the total amount of area allowed to be open and should not have any impact on control effectiveness.

A commenter stated that some direct die injection systems do not recycle resin drip directly back to the resin injection chamber. It is recycled back to the process. We agree that recycling the resin back to the process would result in no additional emissions and have modified the description of direct die injection in 40 CFR 63.5830(c)(3) to reflect this.

Another commenter stated that they manufactured large pultruded parts that currently do not meet the large parts definition of 1,000 reinforcements and a cross sectional area of 60 inches or more shown in footnote 6 of table 3 to subpart WWWW of part 63. These parts were well over 60 inches of cross sectional area but contain large roving and stitched fabrics for reinforcement. They maintained that these parts should be included in the large parts definition because the factors we used to determine what made a part large, i.e., part size and complexity, were as relevant here as they would be if they replaced the fabric and larger roving with a smaller roving and more individual reinforcements to meet the 1,000 reinforcement requirement.

We agree with this comment and have changed the definition of large pultruded parts for existing pultrusion operations in footnote 6 to table 3 of subpart WWWW of part 63 to 60 square inches or more and 1,000 reinforcements, or 60 square inches or more and the glass equivalent of 1,000 ends of 113 yield roving. This change also includes correcting the cross sectional measure to 60 square inches, not 60 inches. We also made corresponding changes to item 9 of table 9 to subpart WWWW of part 63.

We received a comment that equation 2 in 40 CFR 63.5885 was in error because, based on the definition of uncontrolled wet-out area organic HAP emissions, the equation did not account for emissions that are captured and vented to a control device. We agreed with this comment and have revised equations 2 and 3 of 40 CFR 63.5885 to account for all emissions generated in the wet-out areas.

A commenter noted that we did not specify how a source was to report changing compliance options. We have added paragraph (i) to 40 CFR 63.5910 that requires the source to state if they changed compliance options in their next compliance report.

We made several corrections to the definitions in 40 CFR 63.5935 in response to comments. In the definition for “high performance gel coat,” we had listed the National Science Foundation as a source of property testing standards. This should have been the National Sanitation Foundation. We changed the definition of “mixing” to include mixing of putties or polyputties. In the definition for “neat resin plus,” we had left the word “plus” out of the last sentence. In the definition of “polymer casting,” a commenter noted that sometimes polymer casters vibrate or smooth the material. We added language to the “polymer casting” definition to make it clear that vibrating or smoothing the resin is not considered rolling out or working the resin.

We made several changes to table 1 to subpart WWWW of part 63. We corrected a typographical error in the column numbering. We also corrected equation 1.f where we had an error on the first term of the equation and added a new equation to calculate emissions from atomized spray gel coat using robotic or automated spray. Finally, we added a footnote to table 1 to subpart WWWW of part 63 stating that the equations presented are intended for use to determine compliance with the rule and do not preclude the use of other emission factors to calculate emissions for other purposes, such as reports required by their title V permit. The reason for this change was an industry concern that State and local regulators were requiring sources to use the equations in table 1 to subpart WWWW of part 63 in lieu of potentially more accurate factors. However, this footnote does not preclude a facility from using the equations in table 1 to subpart WWWW of part 63 if these equations are deemed to be the most accurate available.

Several changes were made to table 3 to subpart WWWW of part 63 based on comments and questions received after promulgation of the final rule. We received a comment that for three of the operations in table 1 to subpart WWWW of part 63, substituting the value for the highest HAP content for a compliant resin in column four into the equations in table 1 to subpart WWWW of part 63 resulted in a calculated emission factor that was above the corresponding emission limit. This should not happen if the resin or gel coat is considered compliant. On further review, we discovered that the error was due to the way we rounded the calculations during floor development. As a result, the facilities that set the floor for these three operations would not be in compliance. We do not believe that the rounding procedure should result in a floor-setting facility to now be out of compliance with the floor. Therefore, we changed the rounding technique used to calculate the emission limits for the open molding operations in table 3 to subpart WWWW of part 63. The result was the emission limits for the three operations noted by the commenter changed slightly. The limit for open molding, CR/HS resins, mechanical resin application changed from 112 to 113 lb/ton. The emission limit for non-CR/HS resin, mechanical resin changed from 87 to 88 lb/ton. The emission limit for open molding, tooling gel coat changed from 437 to 440 lb/ton. These changes will not affect the costs of compliance or emissions reductions of the rule. The changes simply make the floor emission limits consistent with the facilities setting the floors. The changes in table 3 to subpart WWWW of part 63 also slightly changed the calculated maximum HAP content for these processes shown in table 7 to subpart WWWW of part 63, and we have updated table 7 to subpart WWWW of part 63 to reflect the changes in table 3 to subpart WWWW of part 63.

One commenter stated that regulated sources were confused on which emission limit to use for shrinkage controlled resins when the resin is used to make tools. We added a footnote to clarify that a shrinkage controlled resin is subject to the emission limits in item 5 of table 3 to subpart WWWW of part 63 regardless of whether it is used as a tooling or a production resin.

In table 3 to subpart WWWW of part 63 we did not have emission limits for manually applied gel coat because we did not have data to develop specific limits. In the footnotes, we stated that for compliance purposes, manually applied gel coat should be treated as if it were applied using spray guns. In table 1 to subpart WWWW of part 63, we had an equation to calculate an emission factor for manual gel coat application, but we stated not to use the equation for compliance purposes. We believe this has caused some confusion. Therefore, we have removed the manual gel coat equation from table 1 to subpart WWWW of part 63 because this equation is not necessary to show compliance with the NESHAP. We have also revised the footnote concerning manual gel coat application in table 3 to subpart WWWW of part 63 to make it more clear that to demonstrate compliance for manually applied gel coat you treat manually applied gel coat as if it were applied using spray equipment.

A commenter noted that footnote 1 should apply to items 6 and 7 of table 4 to subpart WWWW of part 63, not just to item 8. We agree with this comment and have revised table 4 to subpart WWWW of part 63 accordingly.

A commenter noted that table 7 to subpart WWWW of part 63 as written implied that, for items 1.a and 4.a, it would be permissible to use atomized mechanical application. This was not our intent. The compliance options in table 7 were intended to provide additional flexibility to regulated sources by allowing the use of the same resin in different operations. The organic HAP limits based on mechanical resin application were all determined using nonatomized spray. Therefore, we have added a footnote to items 1.a and 4.a. of table 7 to subpart WWWW of part 63 to state that nonatomized resin application is required.

A commenter noted that the language in item 5.a.ii of table 8 to subpart WWWW of part 63 implies that all pultrusion machines at existing sources must reduce emissions by 60 weight percent, while the language in 40 CFR 63.5830(e)(2) states that facilities may demonstrate compliance if the weighted average reduction based on resin throughput for all machines combined in 60 percent. We have revised item 5.a.ii of table 8 to subpart WWWW of part 63 to make the language consistent with 40 CFR 63.5830(e)(2). We also changed 40 CFR 63.5830(e)(2) to correct a spelling error.

We received several questions concerning the applicability of rule requirements to filler putties used to fill gaps or smooth sharp corners. We did not specifically investigate these materials in the rulemaking. Putties are sometimes made on site using production resin, but are also purchased as a separate product. We noted that the NESHAP for Boat Manufacturing exempted putties, polyputties, and adhesives from any requirements. Because we cannot say with certainty that filler putties could meet the emission limits for manual resin application, we are amending the rule to exclude putties, polyputties, and adhesives from any emission limits. This will make the Reinforced Plastic Composites Production NESHAP consistent with the Boat Manufacturing NESHAP. However, any emissions from mixing of putties and polyputties would be subject to the appropriate mixing emission limits or work practices. We do not believe this will result in any change in the stringency of the NESHAP for two reasons. First, most facilities use very small amounts of putty compared to their use of resin and gel coat. Second, the small amount of putty used will have a very small surface area relative to the volume and be highly filled, which will tend to result in less emissions than a comparable volume of resin or gel coat.

We also have amended §§ 63.5900, 63.5910, and 63.5915 of 40 CFR part 63 to parallel changes in other sections and incorporate paragraph referencing changes.

III. Statutory and Executive Order Reviews

A. Executive Order 12866, Regulatory Planning and Review

Under Executive Order 12866 (58 FR 51735, October 4, 1993), the EPA must determine whether this regulatory action is “significant” and, therefore, subject to Office of Management and Budget (OMB) review and the requirements of the Executive Order. The Executive Order defines “significant regulatory action” as one that is likely to result in a rule that may:

(1) Have an annual effect on the economy of $100 million or more or adversely affect in a material way the economy, a sector of the economy, productivity, competition, jobs, the environment, public health or safety, or State, local, or tribal governments or communities;

(2) create a serious inconsistency or otherwise interfere with an action taken or planned by another agency;

(3) materially alter the budgetary impact of entitlements, grants, user fees, or loan programs or the rights and obligations of recipients thereof; or

(4) raise novel legal or policy issues arising out of legal mandates, the President's priorities, or the principles set forth in the Executive Order.

It has been determined that this rule is not a “significant regulatory action” under the terms of Executive Order 12866 and is, therefore, not subject to OMB review.”

B. Paperwork Reduction Act

This action does not impose any new information collection burden. This action adds clarifications and corrections to the final standards. However, the OMB has previously approved the information collection requirements contained in the existing regulations (68 FR 36982, June 20, 2003) under the provisions of the Paperwork Reduction Act, 44 U.S.C. 3501, et seq. and has assigned OMB control number 2060-0509 (EPA ICR No. 1976.02). A copy of the Information Collection Request (ICR) may be obtained from Susan Auby by mail at the Office of Environmental Information, Collection Strategies Division (2822), EPA, 1200 Pennsylvania Avenue, NW., Washington, DC 20460, by e-mail at auby.susan@epa.gov, or by calling (202) 566-1672. You also may download a copy from the Internet at http://www.epa.gov/icr. Include the ICR number in any correspondence.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to a collection of information unless it displays a currently valid OMB control number. The OMB control numbers for EPA's regulations are listed in 40 CFR part 9.

C. Regulatory Flexibility Analysis

EPA has determined that it is not necessary to prepare a regulatory flexibility analysis in connection with the direct final rule amendments.

For purposes of assessing the impacts of today's final rule on small entities, small entity is defined as: (1) A small business as defined by the Small Business Administrations' regulations at 13 CFR 121.201; (2) a small governmental jurisdiction that is a government of a city, county, town, school district or special district with a population of less than 50,000; and (3) a small organization that is any not-for-profit enterprise which is independently owned and operated and is not dominant in its field.

After considering the economic impacts of today's direct final rule amendments on small entities, EPA has concluded that this action will not have a significant economic impact on a substantial number of small entities. We have determined that the direct final rule amendments will not impose any new requirements on small entities. Today's action includes direct final rule amendments that resolve inconsistencies, clarify language, and add additional compliance flexibility. None of the amendments will have any discernable effect on the stringency of the rule.

D. Unfunded Mandates Reform Act

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures to State, local, and tribal governments, in the aggregate, or to the private sector, of $100 million or more in any 1 year. Before promulgating a rule for which a written statement is needed, section 205 of the UMRA generally requires us to identify and consider a reasonable number of regulatory alternatives and adopt the least costly, most cost-effective, or least burdensome alternative that achieves the objectives of the rule. The provisions of section 205 do not apply when they are inconsistent with applicable law. Moreover, section 205 allows us to adopt an alternative other than the least costly, most cost-effective, or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

The EPA has determined that the direct final rule amendments do not contain a Federal mandate that may result in expenditures of $100 million or more for State, local, and tribal governments, in the aggregate, or the private sector in any 1 year. The direct final rule amendments apply only to affected sources in the reinforced plastic composites industry and clarify and correct errors in the final rule and, therefore, add no additional burden on sources. Thus, the direct final rule amendments are not subject to the requirements of sections 202 and 205 of the UMRA.

E. Executive Order 13132, Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

The direct final rule amendments do not have federalism implications. They will not have substantial direct effects on the States, on the relationship between the national government and the States, or on the distribution of power and responsibilities among the various levels of government, as specified in Executive Order 13132. No reinforced plastic composites production facilities subject to the direct final rule amendments are owned by State or local governments. Therefore, State and local governments will not have any direct compliance costs resulting from the direct final rule amendments. Furthermore, the direct final rule amendments do not require these governments to take on any new responsibilities. Thus, Executive Order 13132 does not apply to the direct final rule amendments.

F. Executive Order 13175, Consultation and Coordination With Indian Tribal Governments

Executive Order 13175, entitled “Consultation and Coordination with Indian Tribal Governments” (65 FR 67249, November 9, 2000), requires EPA to develop an accountable process to ensure “meaningful and timely input by tribal officials in the development of regulatory policies that have tribal implications.” The direct final rule amendments do not have tribal implications as specified in Executive Order 13175. They will not have substantial direct effects on tribal governments, on the relationship between the Federal government and Indian tribes, or on the distribution of power and responsibilities between the Federal government and Indian tribes, because we are not aware of any Indian tribal governments or communities affected by the direct final rule amendments. Thus, Executive Order 13175 does not apply to the direct final rule amendments.

The EPA specifically solicits additional comment on the direct final rule amendments from tribal officials.

G. Executive Order 13045, Protection of Children From Environmental Health Risks and Safety Risks

Executive Order 13045 (62 FR 19885, April 23, 1997) applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency. The EPA interprets Executive Order 13045 as applying only to those regulatory actions that are based on health or safety risks, such that the analysis required under section 5-501 of the Executive Order has the potential to influence the regulation. The direct final rule amendments are not subject to Executive Order 13045 because they are based on technology performance and not on health or safety risks. They are also not considered “economically significant” as defined under Executive Order 12866.

H. Executive Order 13211, Actions That Significantly Affect Energy Supply, Distribution, or Use

The direct final rule amendments are not subject to Executive Order 13211 (66 FR 28355, May 22, 2001) because they are not a significant regulatory action under Executive Order 12866.

I. National Technology Transfer Advancement Act

Section 12(d) of the National Technology Transfer Advancement Act (NTTAA) of 1995, Public Law 104-113, 12(d) (15 U.S.C. 272 note) directs EPA to use voluntary consensus standards (VCS) in its regulatory activities unless to do so would be inconsistent with applicable law or otherwise impractical. The VCS are technical standards (e.g., materials specifications, test methods, sampling procedures, and business practices) that are developed or adopted by VCS bodies. The NTTAA directs EPA to provide Congress, through the OMB, explanations when the Agency decides not to use available and applicable VCS.

The direct final rule amendments do not involve technical standards. Therefore, EPA is not considering the use of any VCS.

J. Congressional Review Act

The Congressional Review Act, 5 U.S.C. 801, et seq., as added by the Small Business Regulatory Enforcement Fairness Act of 1996, generally provides that before a rule may take effect, the agency promulgating the rule must submit a rule report, which includes a copy of the rule, to each House of the Congress and to the Comptroller General of the United States. The EPA will submit a report containing the direct final rule amendments and other required information to the United States Senate, the United States House of Representatives, and the Comptroller General of the United States prior to publication of the direct final rule amendments in the Federal Register. A major rule cannot take effect until 60 days after it is published in the Federal Register. The direct final rule amendments are not a “major rule” as defined by 5 U.S.C. 804(2). The direct final rule amendments are effective on October 24, 2005.

List of Subjects in 40 CFR Part 63

Environmental protection, Air pollution control, Hazardous substances, and Reporting and recordkeeping requirements.

Dated: August 16, 2005.
Stephen L. Johnson,
Administrator.

For the reasons stated in the preamble, title 40, chapter I, part 63 of the Code of the Federal Regulations is amended as follows:

PART 63—[AMENDED]

1. The authority citation for part 63 continues to read as follows:

Authority: 42 U.S.C. 7401, et seq.

Subpart WWWW—[Amended]

2. Section 63.5790 is amended by revising paragraph (c) to read as follows:

§ 63.5790 What parts of my plant does this subpart cover?

* * * * *

(c) The following operations are specifically excluded from any requirements in this subpart: application of mold sealing and release agents; mold stripping and cleaning; repair of parts that you did not manufacture, including non-routine manufacturing of parts; personal activities that are not part of the manufacturing operations (such as hobby shops on military bases); prepreg materials as defined in § 63.5935; non-gel coat surface coatings; application of putties, polyputties, and adhesives; repair or production materials that do not contain resin or gel coat; research and development operations as defined in section 112(c)(7) of the CAA; polymer casting; and closed molding operations (except for compression/injection molding). Note that the exclusion of certain operations from any requirements applies only to operations specifically listed in this paragraph. The requirements for any co-located operations still apply.

* * * * *

3. Section 63.5795 is revised to read as follows:

§ 63.5795 How do I know if my reinforced plastic composites production facility is a new affected source or an existing affected source?

(a) A reinforced plastic composites production facility is a new affected source if it meets all the criteria in paragraphs (a)(1) and (2) of this section.

(1) You commence construction of the source after August 2, 2001.

(2) You commence construction, and no other reinforced plastic composites production source exists at that site.

(b) For the purposes of this subpart, an existing affected source is any affected source that is not a new affected source.

4. Section 63.5799 is amended by:

a. Revising paragraph (a); and

b. Revising the paragraph (b) introductory text to read as follows:

§ 63.5799 How do I calculate my facility's organic HAP emissions on a tpy basis for purposes of determining which paragraphs of § 63.5805 apply?

* * * * *

(a) For new facilities prior to startup, calculate a weighted average organic HAP emissions factor for the operations specified in § 63.5805(c) and (d) on a lbs/ton of resin and gel coat basis. Base the weighted average on your projected operation for the 12 months subsequent to facility startup. Multiply the weighted average organic HAP emissions factor by projected resin use over the same period. You may calculate your organic HAP emissions factor based on the factors in Table 1 to this subpart, or you may use any HAP emissions factor approved by us, such as factors from the “Compilation of Air Pollutant Emissions Factors, Volume I: Stationary Point and Area Sources (AP-42),” or organic HAP emissions test data from similar facilities.

(b) For existing facilities and new facilities after startup, you may use the procedures in either paragraph (b)(1) or (2) of this section. If the emission factors for an existing facility have changed over the period of time prior to their initial compliance date due to incorporation of pollution-prevention control techniques, existing facilities may base the average emission factor on their operations as they exist on the compliance date. If an existing facility has accepted an enforceable permit limit that would result in less than 100 tpy of HAP measured prior to any add-on controls, and can demonstrate that they will operate at that level subsequent to the compliance date, they can be deemed to be below the 100 tpy threshold.

* * * * *

5. Section 63.5805 is revised to read as follows:

§ 63.5805 What standards must I meet to comply with this subpart?

You must meet the requirements of paragraphs (a) through (h) of this section that apply to you. You may elect to comply using any options to meet the standards described in §§ 63.5810 through 63.5830. Use the procedures in § 63.5799 to determine if you meet or exceed the 100 tpy threshold.

(a) If you have an existing facility that has any centrifugal casting or continuous casting/lamination operations, you must meet the requirements of paragraph (a)(1) or (2) of this section:

(1) If the combination of all centrifugal casting and continuous lamination/casting operations emit 100 tpy or more of HAP, you must reduce the total organic HAP emissions from centrifugal casting and continuous lamination/casting operations by at least 95 percent by weight. As an alternative to meeting the 95 percent by weight requirement, centrifugal casting operations may meet the applicable organic HAP emissions limits in Table 5 to this subpart and continuous lamination/casting operations may meet an organic HAP emissions limit of 1.47 lbs/ton of neat resin plus and neat gel coat plus applied. For centrifugal casting, the percent reduction requirement does not apply to organic HAP emissions that occur during resin application onto an open centrifugal casting mold using open molding application techniques.

(2) If the combination of all centrifugal casting and continuous lamination/casting operations emit less than 100 tpy of HAP, then centrifugal casting and continuous lamination/casting operations must meet the appropriate requirements in Table 3 to this subpart.

(b) All operations at existing facilities not listed in paragraph (a) of this section must meet the organic HAP emissions limits in Table 3 to this subpart and the work practice standards in Table 4 to this subpart that apply, regardless of the quantity of HAP emitted.

(c) If you have a new facility that emits less than 100 tpy of HAP from the combination of all open molding, centrifugal casting, continuous lamination/casting, pultrusion, SMC manufacturing, mixing, and BMC manufacturing, you must meet the organic HAP emissions limits in Table 3 to this subpart and the work practice standards in Table 4 to this subpart that apply to you.

(d)(1) Except as provided in paragraph (d)(2) of this section, if you have a new facility that emits 100 tpy or more of HAP from the combination of all open molding, centrifugal casting, continuous lamination/casting, pultrusion, SMC manufacturing, mixing, and BMC manufacturing, you must reduce the total organic HAP emissions from these operations by at least 95 percent by weight and meet any applicable work practice standards in Table 4 to this subpart that apply to you. As an alternative to meeting 95 percent by weight, you may meet the organic HAP emissions limits in Table 5 to this subpart. If you have a continuous lamination/casting operation, that operation may alternatively meet an organic HAP emissions limit of 1.47 lbs/ton of neat resin plus and neat gel coat plus applied.

(2)(i) If your new facility manufactures large reinforced plastic composites parts using open molding or pultrusion operations, the specific open molding and pultrusion operations used to produce large parts are not required to reduce HAP emissions by 95 weight percent, but must meet the emission limits in Table 3 to this subpart.

(ii) A large open molding part is defined as a part that, when the final finished part is enclosed in the smallest rectangular six-sided box into which the part can fit, the total interior volume of the box exceeds 250 cubic feet, or any interior sides of the box exceed 50 square feet.

(iii) A large pultruded part is a part that exceeds an outside perimeter of 24 inches or has more than 350 reinforcements.

(e) If you have a new or existing facility subject to paragraph (a)(2) or (c) of this section at its initial compliance date that subsequently meets or exceeds the 100 tpy threshold in any calendar year, you must notify your permitting authority in your compliance report. You may at the same time request a one-time exemption from the requirements of paragraph (a)(1) or (d) of this section in your compliance report if you can demonstrate all of the following:

(1) The exceedance of the threshold was due to circumstances that will not be repeated.

(2) The average annual organic HAP emissions from the potentially affected operations for the last 3 years were below 100 tpy.

(3) Projected organic HAP emissions for the next calendar year are below 100 tpy, based on projected resin and gel coat use and the HAP emission factors calculated according to the procedures in § 63.5799.

(f) If you apply for an exemption in paragraph (e) of this section and subsequently exceed the HAP emission thresholds specified in paragraph (a)(2) or (c) of this section over the next 12-month period, you must notify the permitting authority in your semiannual report, the exemption is removed, and your facility must comply with paragraph (a)(1) or (d) of this section within 3 years from the time your organic HAP emissions first exceeded the threshold.

(g) If you have repair operations subject to this subpart as defined in § 63.5785, these repair operations must meet the requirements in Tables 3 and 4 to this subpart and are not required to meet the 95 percent organic HAP emissions reduction requirements in paragraph (a)(1) or (d) of this section.

(h) If you use an add-on control device to comply with this subpart, you must meet all requirements contained in 40 CFR part 63, subpart SS.

6. Section 63.5810 is revised to read as follows:

§ 63.5810 What are my options for meeting the standards for open molding and centrifugal casting operations at new and existing sources?

You must use one of the following methods in paragraphs (a) through (d) of this section to meet the standards for open molding or centrifugal casting operations in Table 3 or 5 to this subpart. You may use any control method that reduces organic HAP emissions, including reducing resin and gel coat organic HAP content, changing to nonatomized mechanical application, using covered curing techniques, and routing part or all of your emissions to an add-on control. You may use different compliance options for the different operations listed in Table 3 or 5 to this subpart. The necessary calculations must be completed within 30 days after the end of each month. You may switch between the compliance options in paragraphs (a) through (d) of this section. When you change to an option based on a 12-month rolling average, you must base the average on the previous 12 months of data calculated using the compliance option you are changing to, unless you were previously using an option that did not require you to maintain records of resin and gel coat use. In this case, you must immediately begin collecting resin and gel coat use data and demonstrate compliance 12 months after changing options.

(a) Demonstrate that an individual resin or gel coat, as applied, meets the applicable emission limit in Table 3 or 5 to this subpart. (1) Calculate your actual organic HAP emissions factor for each different process stream within each operation type. A process stream is defined as each individual combination of resin or gel coat, application technique, and control technique. Process streams within operations types are considered different from each other if any of the following four characteristics vary: the neat resin plus or neat gel coat plus organic HAP content, the gel coat type, the application technique, or the control technique. You must calculate organic HAP emissions factors for each different process stream by using the appropriate equations in Table 1 to this subpart for open molding and for centrifugal casting, or site-specific organic HAP emissions factors discussed in § 63.5796. The emission factor calculation should include any and all emission reduction techniques used including any add-on controls. If you are using vapor suppressants to reduce HAP emissions, you must determine the vapor suppressant effectiveness (VSE) by conducting testing according to the procedures specified in appendix A to subpart WWWW of 40 CFR part 63. If you are using an add-on control device to reduce HAP emissions, you must determine the add-on control factor by conducting capture and control efficiency testing using the procedures specified in § 63.5850. The organic HAP emissions factor calculated from the equations in Table 1 to this subpart, or a site-specific emissions factor, is multiplied by the add-on control factor to calculate the organic HAP emissions factor after control. Use Equation 1 of this section to calculate the add-on control factor used in the organic HAP emissions factor equations.

Where:

Percent Control Efficiency=a value calculated from organic HAP emissions test measurements made according to the requirements of § 63.5850 to this subpart.

(2) If the calculated emission factor is less than or equal to the appropriate emission limit, you have demonstrated that this process stream complies with the emission limit in Table 3 to this subpart. It is not necessary that all your process streams, considered individually, demonstrate compliance to use this option for some process streams. However, for any individual resin or gel coat you use, if any of the process streams that include that resin or gel coat are to be used in any averaging calculations described in paragraphs (b) through (d) of this section, then all process streams using that individual resin or gel coat must be included in the averaging calculations.

(b) Demonstrate that, on average, you meet the individual organic HAP emissions limits for each combination of operation type and resin application method or gel coat type. Demonstrate that on average you meet the individual organic HAP emissions limits for each unique combination of operation type and resin application method or gel coat type shown in Table 3 to this subpart that applies to you.

(1)(i) Group the process streams described in paragraph (a) to this section by operation type and resin application method or gel coat type listed in Table 3 to this subpart and then calculate a weighted average emission factor based on the amounts of each individual resin or gel coat used for the last 12 months. To do this, sum the product of each individual organic HAP emissions factor calculated in paragraph (a)(1) of this section and the amount of neat resin plus and neat gel coat plus usage that corresponds to the individual factors and divide the numerator by the total amount of neat resin plus and neat gel coat plus used in that operation type as shown in Equation 2 of this section.

Where:

Actual Process Stream EFi=actual organic HAP emissions factor for process stream i, lbs/ton;

Materiali=neat resin plus or neat gel coat plus used during the last 12 calendar months for process stream i, tons;

n=number of process streams where you calculated an organic HAP emissions factor.

(ii) You may, but are not required to, include process streams where you have demonstrated compliance as described in paragraph (a) of this section, subject to the limitations described in paragraph (a)(2) of this section, and you are not required to and should not include process streams for which you will demonstrate compliance using the procedures in paragraph (d) of this section.

(2) Compare each organic HAP emissions factor calculated in paragraph (b)(1) of this section with its corresponding organic HAP emissions limit in Table 3 or 5 to this subpart. If all emissions factors are equal to or less than their corresponding emission limits, then you are in compliance.

(c) Demonstrate compliance with a weighted average emission limit. Demonstrate each month that you meet each weighted average of the organic HAP emissions limits in Table 3 or 5 to this subpart that apply to you. When using this option, you must demonstrate compliance with the weighted average organic HAP emissions limit for all your open molding operations, and then separately demonstrate compliance with the weighted average organic HAP emissions limit for all your centrifugal casting operations. Open molding operations and centrifugal casting operations may not be averaged with each other.

(1) Each month calculate the weighted average organic HAP emissions limit for all open molding operations and the weighted average organic HAP emissions limit for all centrifugal casting operations for your facility for the last 12-month period to determine the organic HAP emissions limit you must meet. To do this, multiply the individual organic HAP emissions limits in Table 3 or 5 to this subpart for each open molding (centrifugal casting) operation type by the amount of neat resin plus or neat gel coat plus used in the last 12 months for each open molding (centrifugal casting) operation type, sum these results, and then divide this sum by the total amount of neat resin plus and neat gel coat plus used in open molding (centrifugal casting) over the last 12 months as shown in Equation 3 of this section.

Where:

ELi=organic HAP emissions limit for operation type i, lbs/ton from Tables 3 or 5 to this subpart;

Materiali=neat resin plus or neat gel coat plus used during the last 12-month period for operation type i, tons;

n=number of operations.

(2) Each month calculate your weighted average organic HAP emissions factor for open molding and centrifugal casting. To do this, multiply your actual open molding (centrifugal casting) operation organic HAP emissions factors calculated in paragraph (b)(1) of this section and the amount of neat resin plus and neat gel coat plus used in each open molding (centrifugal casting) operation type, sum the results, and divide this sum by the total amount of neat resin plus and neat gel coat plus used in open molding (centrifugal casting) operations as shown in Equation 4 of this section.

Where:

Actual Individual EFi=Actual organic HAP emissions factor for operation type i, lbs/ton;

Materiali=neat resin plus or neat gel coat plus used during the last 12 calendar months for operation type i, tons;

n=number of operations.

(3) Compare the values calculated in paragraphs (c)(1) and (2) of this section. If each 12-month rolling average organic HAP emissions factor is less than or equal to the corresponding 12-month rolling average organic HAP emissions limit, then you are in compliance.

(d) Meet the organic HAP emissions limit for one application method and use the same resin(s) for all application methods of that resin type. This option is limited to resins of the same type. The resin types for which this option may be used are noncorrosion-resistant, corrosion-resistant and/or high strength, and tooling.

(1) For any combination of manual resin application, mechanical resin application, filament application, or centrifugal casting, you may elect to meet the organic HAP emissions limit for any one of these application methods and use the same resin in all of the resin application methods listed in this paragraph (d)(1). Table 7 to this subpart presents the possible combinations based on a facility selecting the application process that results in the highest allowable organic HAP content resin. If the resin organic HAP content is below the applicable value shown in Table 7 to this subpart, the resin is in compliance.

(2) You may also use a weighted average organic HAP content for each application method described in paragraph (d)(1) of this section. Calculate the weighted average organic HAP content monthly. Use Equation 2 in paragraph (b)(1) of this section except substitute organic HAP content for organic HAP emissions factor. You are in compliance if the weighted average organic HAP content based on the last 12 months of resin use is less than or equal to the applicable organic HAP contents in Table 7 to this subpart.

(3) You may simultaneously use the averaging provisions in paragraph (b) or (c) of this section to demonstrate compliance for any operations and/or resins you do not include in your compliance demonstrations in paragraphs (d)(1) and (2) of this section. However, any resins for which you claim compliance under the option in paragraphs (d)(1) and (2) of this section may not be included in any of the averaging calculations described in paragraph (b) or (c) of this section.

(4) You do not have to keep records of resin use for any of the individual resins where you demonstrate compliance under the option in paragraph (d)(1) of this section unless you elect to include that resin in the averaging calculations described in paragraph (d)(2) of this section.

7. Section 63.5830 is amended by:

a. Revising paragraph (b)(4);

b. Revising paragraph (c)(3); and

c. Revising paragraph (e)(2) to read as follows.

§ 63.5830 What are my options for meeting the standards for pultrusion operations subject to the 60 weight percent organic HAP emissions reductions requirement?

* * * * *

(b) * * *

(4) For pultrusion lines with pre-wet area(s) prior to direct die injection, no more than 12.5 inches of open wet stock is permitted between the entrance of the first pre-wet area and the entrance to the die. If the pre-wet stock has any drip, it must be enclosed.

* * * * *

(c) * * *

(3) Resin drip is captured in a closed system and recycled back to the process.

* * * * *

(e) * * *

(2) The weighted average reduction based on resin throughput of all machines combined is 60 percent. For purposes of the average percent reduction calculation, wet area enclosures reduce organic HAP emissions by 60 percent, and direct die injection and preform injection reduce organic HAP emissions by 90 percent.

8. Section 63.5885 is revised to read as follows:

§ 63.5885 How do I calculate percent reduction to demonstrate compliance for continuous lamination/casting operations?

You may calculate percent reduction using any of the methods in paragraphs (a) through (d) of this section.

(a) Compliant line option. If all of your wet-out areas have PTE that meet the requirements of EPA Method 204 of appendix M of 40 CFR part 51, and all of your wet-out area organic HAP emissions and oven organic HAP emissions are vented to an add-on control device, use Equation 1 of this section to demonstrate compliance. In all other situations, use Equation 2 of this section to demonstrate compliance.

Where:

PR=percent reduction;

Inlet+HAP emissions entering the control device, lbs per year;

Outlet=HAP emissions existing the control device to the atmosphere, lbs per year.

Where:

PR=percent reduction;

WAEici=wet-out area organic HAP emissions, lbs per year, vented to a control device;

WAEiu=wet-out area organic HAP emissions, lbs per year, not vented to a control device;

Oju=oven organic HAP emissions, lbs per year, not vented to a control device;

Ojci=oven organic HAP emissions, lbs per year, vented to a control device;

WAEico=wet-out area organic HAP emissions, lbs per year, from the control device outlet;

Ojco=oven organic HAP emissions, lbs per year, from the control device outlet.

(b) Averaging option. Use Equation 3 of this section to calculate percent reduction.

Where:

PR=percent reduction;

WAEici=wet-out area organic HAP emissions from wet-out area i, lbs per year, sent to a control device;

WAEiu=wet-out area organic HAP emissions from wet-out area i, lbs per year, not sent to a control device;

WAEico=wet-out area organic HAP emissions from wet-out area i, lbs per year, at the outlet of a control device;

Oju=organic HAP emissions from oven j, lbs per year, not sent to a control device;

Ojci=organic HAP emissions from oven j, lbs per year, sent to a control device;

Ojco=organic HAP emissions from oven j, lbs per year, at the outlet of the control device;

m=number of wet-out areas;

n=number of ovens.

(c) Add-on control device option. Use Equation 1 of this section to calculate percent reduction.

(d) Combination option. Use Equations 1 through 3 of this section, as applicable, to calculate percent reduction.

9. Section 63.5895 is amended by revising paragraph (d) to read as follows:

§ 63.5895 How do I monitor and collect data to demonstrate continuous compliance?

* * * * *

(d) Resin and gel coat use records are not required for the individual resins and gel coats that are demonstrated, as applied, to meet their applicable emission as defined in § 63.5810(a). However, you must retain the records of resin and gel coat organic HAP content, and you must include the list of these resins and gel coats and identify their application methods in your semiannual compliance reports. If after you have initially demonstrated that a specific combination of an individual resin or gel coat, application method, and controls meets its applicable emission limit, and the resin or gel coat changes or the organic HAP content increases, or you change the application method or controls, then you again must demonstrate that the individual resin or gel coat meets its emission limit as specified in paragraph (a) of § 63.5810. If any of the previously mentioned changes results in a situation where an individual resin or gel coat now exceeds its applicable emission limit in Table 3 or 5 of this subpart, you must begin collecting resin and gel coat use records and calculate compliance using one of the averaging options on a 12-month rolling average.

* * * * *

10. Section 63.5900 is amended by revising paragraphs (a)(2) and (3) to read as follows:

§ 63.5900 How do I demonstrate continuous compliance with the standards?

(a) * * *

(2) Compliance with organic HAP emissions limits is demonstrated by maintaining an organic HAP emissions factor value less than or equal to the appropriate organic HAP emissions limit listed in Table 3 or 5 to this subpart, on a 12-month rolling average, and/or by including in each compliance report a statement that individual resins and gel coats, as applied, meet the appropriate organic HAP emissions limits, as discussed in § 63.5895(d).

(3) Compliance with organic HAP content limits in Table 7 to this subpart is demonstrated by maintaining an average organic HAP content value less than or equal to the appropriate organic HAP contents listed in Table 7 to this subpart, on a 12-month rolling average, and/or by including in each compliance report a statement that resins and gel coats individually meet the appropriate organic HAP content limits in Table 7 to this subpart, as discussed in § 63.5895(d).

* * * * *

11. Section 63.5910 is amended by:

a. Revising paragraph (f); and

b. Adding paragraph (i) to read as follows.

§ 63.5910 What reports must I submit and when?

* * * * *

(f) You must report if you have exceeded the 100 tpy organic HAP emissions threshold if that exceedance would make your facility subject to § 63.5805(a)(1) or (d). Include with this report any request for an exemption under § 63.5805(e). If you receive an exemption under § 63.5805(e) and subsequently exceed the 100 tpy organic HAP emissions threshold, you must report this exceedance as required in § 63.5805(f).

* * * * *

(i) Where multiple compliance options are available, you must state in your next compliance report if you have changed compliance options since your last compliance report.

12. Section 63.5915 is amended by revising paragraph (e) introductory text to read as follows:

§ 63.5915 What records must I keep?

* * * * *

(e) For a new or existing continuous lamination/ casting operation, you must keep the records listed in paragraphs (e)(1) through (4) of this section, when complying with the percent reduction and/or lbs/ton requirements specified in paragraphs (a) and (c) through (d) of § 63.5805.

* * * * *

13. Section 63.5935 is amended to revise the definitions of High performance gel coat, Mixing, Neat resin plus, and Polymer casting to read as follows:

§ 63.5935 What definitions apply to this subpart?

* * * * *

High Performance gel coat means a gel coat used on products for which National Sanitation Foundation, United States Department of Agriculture, ASTM, durability, or other property testing is required.

* * * * *

Mixing means the blending or agitation of any HAP-containing materials in vessels that are 5.00 gallons (18.9 liters) or larger, and includes the mixing of putties or polyputties. Mixing may involve the blending of resin, gel coat, filler, reinforcement, pigments, catalysts, monomers, and any other additives.

* * * * *

Neat resin plus means neat resin plus any organic HAP-containing materials that are added to the resin by the supplier or the facility. Neat resin plus does not include any added filler, reinforcements, catalysts, or promoters. Neat resin plus does include any additions of styrene or methyl methacrylate monomer in any form, including in catalysts and promoters.

* * * * *

Polymer casting means a process for fabricating composites in which composite materials are ejected from a casting machine or poured into an open, partially open, or closed mold and cured. After the composite materials are poured into the mold, they are not rolled out or worked while the mold is open, except for smoothing the material and/or vibrating the mold to remove bubbles. The composite materials may or may not include reinforcements. Products produced by the polymer casting process include cultured marble products and polymer concrete.

* * * * *

14. Table 1 to subpart WWWW of part 63 is revised to read as follows:

BILLING CODE 6560-50-P

BILLING CODE 6560-50-C

15. Table 3 to subpart WWWW of part 63 is revised to read as follows:

As specified in § 63.5805, you must meet the following organic HAP emissions limits that apply to you:

Table 3 to Subpart WWWW of Part 63.—Organic HAP Emissions Limits for Specific Open Molding, Centrifugal Casting, Pultrusion and Continuous Lamination/Casting Operations
If your operation type is . . . | And you use . . . | ¹ Your organic HAP emissions limit is . . .
1. open molding—corrosion-resistant and/or high strength (CR/HS) | a. mechanical resin application b. filament application c. manual resin application | 113 lb/ton. 171 lb/ton. 123 lb/ton.
2. open molding—non-CR/HS | a. mechanical resin application b. filament application c. manual resin application | 88 lb/ton. 188 lb/ton. 87 lb/ton.
3. open molding—tooling | a. mechanical resin application b. manual resin application | 254 lb/ton. 157 lb/ton.
4. open molding—low-flame spread/low-smoke products | a. mechanical resin application b. filament application c. manual resin application | 497 lb/ton. 270 lb/ton. 238 lb/ton.
5. open molding—shrinkage controlled resins ² | a. mechanical resin application b. filament application c. manual resin application | 354 lb/ton. 215 lb/ton. 180 lb/ton.
6. open molding—gel coat ³ | a. tooling gel coating b. white/off white pigmented gel coating c. all other pigmented gel coating d. CR/HS or high performance gel coat e. fire retardant gel coat f. clear production gel coat | 440 lb/ton. 267 lb/ton. 377 lb/ton. 605 lb/ton. 854 lb/ton. 522 lb/ton.
7. centrifugal casting—CR/HS | a. resin application with the mold closed, and the mold is vented during spinning and cure b. resin application with the mold closed, and the mold is not vented during spinning and cure c. resin application with the mold open, and the mold is vented during spinning and cure d. resin application with the mold open, and the mold is not vented during spinning and cure | 25 lb/ton.⁴ NA—this is considered to be a closed molding operation. 25 lb/ton.⁴ Use the appropriate open molding emission limit.⁵
8. centrifugal casting—non-CR/HS | a. resin application with the mold closed, and the mold is vented during spinning and cure b. resin application with the mold closed, and mold is not vented during the spinning and cure c. resin application with the mold open, and the mold is vented during spinning and cure d. resin application with the mold open, and the mold is not vented during spinning and cure | 20 lb/ton.⁴ NA—this is considered to be a closed molding operation. 20 lb/ton.⁴ Use the appropriate open molding emission limit.⁵
9. pultrusion ⁶ | N/A | reduce total organic HAP emissions by at least 60 weight percent.
10. continuous lamination/casting | N/A | reduce total organic HAP emissions by at least 58.5 weight percent or not exceed a organic HAP emissions limit of 15.7 lbs of organic HAP per ton of neat resin plus and neat gel coat plus.
¹ Organic HAP emissions limits for open molding and centrifugal casting are expressed as lb/ton. You must be at or below these values based on a 12-month rolling average.
² This emission limit applies regardless of whether the shrinkage controlled resin is used as a production resin or a tooling resin.
³ If you only apply gel coat with manual application, for compliance purposes treat the gel coat as if it were applied using atomized spray guns to determine both emission limits and emission factors. If you use multiple application methods and any portion of a specific gel coat is applied using nonatomized spray, you may use the nonatomized spray gel coat equation to calculate an emission factor for the manually applied portion of that gel coat. Otherwise, use the atomized spray gel coat application equation to calculate emission factors.
⁴ For compliance purposes, calculate your emission factor using only the appropriate centrifugal casting equation in item 2 of Table 1 to this subpart, or a site specific emission factor for after the mold is closed as discussed in § 63.5796.
⁵ Calculate your emission factor using the appropriate open molding covered cure emission factor in item 1 of Table 1 to this subpart, or a site specific emission factor as discussed in § 63.5796.
⁶ Pultrusion machines that produce parts that meet the following criteria: 1,000 or more reinforcements or the glass equivalent of 1,000 ends of 113 yield roving or more; and have a cross sectional area of 60 square inches or more are not subject to this requirement. Their requirement is the work practice of air flow management which is described in Table 4 to this subpart.

16. Table 4 to subpart WWWW of part 63 is revised to read as follows:

As specified in § 63.5805, you must meet the work practice standards in the following table that apply to you:

Table 4 to Subpart WWWW of Part 63.—Work Practice Standards
For . . . | You must . . .
1. a new or existing closed molding operation using compression/injection molding | uncover, unwrap or expose only one charge per mold cycle per compression/injection molding machine. For machines with multiple molds, one charge means sufficient material to fill all molds for one cycle. For machines with robotic loaders, no more than one charge may be exposed prior to the loader. For machines fed by hoppers, sufficient material may be uncovered to fill the hopper. Hoppers must be closed when not adding materials. Materials may be uncovered to feed to slitting machines. Materials must be recovered after slitting.
2. a new or existing cleaning operation | not use cleaning solvents that contain HAP, except that styrene may be used as a cleaner in closed systems, and organic HAP containing cleaners may be used to clean cured resin from application equipment. Application equipment includes any equipment that directly contacts resin.
3. a new or existing materials HAP-containing materials storage operation | keep containers that store HAP-containing materials closed or covered except during the addition or removal of materials. Bulk HAP-containing materials storage tanks may be vented as necessary for safety.
4. an existing or new SMC manufacturing operation | close or cover the resin delivery system to the doctor box on each SMC manufacturing machine. The doctor box itself may be open.
5. an existing or new SMC manufacturing operation | use a nylon containing film to enclose SMC.
6. all mixing or BMC manufacturing operations¹ | use mixer covers with no visible gaps present in the mixer covers, except that gaps of up to 1 inch are permissible around mixer shafts and any required instrumentation.
7. all mixing or BMC manufacturing operations¹ | close any mixer vents when actual mixing is occurring, except that venting is allowed during addition of materials, or as necessary prior to adding materials or opening the cover for safety. Vents routed to a 95 percent efficient control device are exempt from this requirement.
8. all mixing or BMC manufacturing operations¹ | keep the mixer covers closed while actual mixing is occurring except when adding materials or changing covers to the mixing vessels.
9. a new or existing pultrusion operation manufacturing parts that meet the following criteria: 1,000 or more reinforcements or the glass equivalent of 1,000 ends of 113 yield roving or more; and have a cross sectional area of 60 square inches or more that is not subject to the 95 percent organic HAP emission reduction requirement | i. not allow vents from the building ventilation system, or local or portable fans to blow directly on or across the wet-out area(s), ii. not permit point suction of ambient air in the wet-out area(s) unless that air is directed to a control device, iii. use devices such as deflectors, baffles, and curtains when practical to reduce air flow velocity across the wet-out area(s), iv. direct any compressed air exhausts away from resin and wet-out area(s),
| v. convey resin collected from drip-off pans or other devices to reservoirs, tanks, or sumps via covered troughs, pipes, or other covered conveyance that shields the resin from the ambient air, vi. cover all reservoirs, tanks, sumps, or HAP-containing materials storage vessels except when they are being charged or filled, and vii. cover or shield from ambient air resin delivery systems to the wet-out area(s) from reservoirs, tanks, or sumps where practical.
¹ Containers of 5 gallons or less may be open when active mixing is taking place, or during periods when they are in process (i.e., they are actively being used to apply resin). For polymer casting mixing operations, containers with a surface area of 500 square inches or less may be open while active mixing is taking place.

17. The title and introductory text to Table 5 to subpart WWWW of part 63 are revised to read as follows:

Table 5 to Subpart WWW of Part 63.—Alternative Organic HAP Emissions Limits for Open Molding, Centrifugal Casting, and SMC Manufacturing Operations Where the Standards are Based on a 95 Percent Reduction Requirement

As specified in § 63.5805, as an alternative to the 95 percent organic HAP emissions reductions requirement, you may meet the appropriate organic HAP emissions limits in the following table:

* * * * *

18. Table 7 to subpart WWWW of part 63 is revised to read as follows:

As specified in § 63.5810(d), when electing to use the same resin(s) for multiple resin application methods, you may use any resin(s) with an organic HAP content less than or equal to the values shown in the following table, or any combination of resins whose weighted average organic HAP content based on a 12-month rolling average is less than or equal to the values shown the following table:

Table 7—to Subpart WWWW of Part 63.—Options Allowing Use of the Same Resin Across Different Operations That Use the Same Resin Type
If your facility has the following resin type and application method . . . | The highest resin weight is* * * percent organic HAP content, or weighted average weight percent organic HAP content, you can use for . . . | is . . .
1. CR/HS resins, centrifugal casting 1 2 | a. CR/HS mechanical | ³ 48.0
| b. CR/HS filament application | 48.0
| c. CR/HS manual | 48.0
2. CR/HS resins, nonatomized mechanical | a. CR/HS filament application | 46.4
| b. CR/HS manual | 46.4
3. CR/HS resins, filament application | CR/HS manual | 42.0
4. non-CR/HS resins, filament application | a. non-CR/HS mechanical | ³ 45.0
| b. non-CR/HS manual | 45.0
| c. non-CR/HS centrifugal casting 1 2 | 45.0
5. non-CR/HS resins, nonatomized mechanical | a. non-CR/HS manual | 38.5
| b. non-CR/HS centrifugal casting 1 2 | 38.5
6. non-CR/HS resins, centrifugal casting 1 2 | non-CR/HS manual | 37.5
7. tooling resins, nonatomized mechanical | tooling manual | 91.4
8. tooling resins, manual | tooling atomized mechanical | 45.9
¹ If the centrifugal casting operation blows heated air through the molds, then 95 percent capture and control must be used if the facility wishes to use this compliance option.
² If the centrifugal casting molds are not vented, the facility may treat the centrifugal casting operations as if they were vented if they wish to use this compliance option.
³ Nonatomized mechanical application must be used.

19. Table 8 to subpart WWWW of part 63 is revised to read as follows:

As specified in § 63.5860(a), you must demonstrate initial compliance with organic HAP emissions limits as specified in the following table:

Table 8 to Subpart WWWW of Part 63.—Initial Compliance With Organic HAP Emissions Limits
For . . . | That must meet the following organic HAP emissions limit . . . | You have demonstrated initial compliance if . . .
1. open molding and centrifugal casting operations | a. an organic HAP emissions limit shown in Tables 3 or 5 to this subpart, or an organic HAP content limit shown in Table 7 to this subpart | i. you have met the appropriate organic HAP emissions limits for these operations as calculated using the procedures in § 63.5810 on a 12-month rolling average 1 year after the appropriate compliance date, and/or ii. you demonstrate that any individual resins or gel coats not included in (i) above, as applied, meet their applicable emission limits, or iii. you demonstrate using the appropriate values in Table 7 to this subpart that the weighted average of all resins and gel coats for each resin type and application method meet the appropriate organic HAP contents.
2. open molding centrifugal casting, continuous lamination/casting, SMC and BMC manufacturing, and mixing operations | a. reduce total organic HAP emissions by at least 95 percent by weight | total organic HAP emissions, based on the results of the capture efficiency and destruction efficiency testing specified in Table 6 to this subpart, are reduced by at least 95 percent by weight.
3. continuous lamination/casting operations | a. reduce total organic HAP emissions, by at least 58.5 weight percent, or | total organic HAP emissions, based on the results of the capture efficiency and destruction efficiency in Table 6 to this subpart and the calculation procedures specified in §§ 63.5865 through 63.5890, are reduced by at least 58.5 percent by weight.
| b. not exceed an organic HAP emissions limit of 15.7 lbs of organic HAP per ton of neat resin plus and neat gel coat plus | total organic HAP emissions, based on the results of the capture efficiency and destruction efficiency testing specified in Table 6 to this subpart and the calculation procedures specified in §§ 63.5865 through 63.5890, do not exceed 15.7 lbs of organic HAP per ton of neat resin plus and neat gel coat plus.
4. continuous lamination/casting operations | a. reduce total organic HAP emissions by at least 95 weight percent or | total organic HAP emissions, based on the results of the capture efficiency and destruction efficiency testing specified in Table 6 to this subpart and the calculation procedures specified in §§ 63.5865 through 63.5890, are reduced by at least 95 percent by weight
| b. not exceed an organic HAP emissions limit of 1.47 lbs of organic HAP per ton of neat resin plus and neat gel coat plus | total organic HAP emissions, based on the results of the capture efficiency and destruction efficiency testing specified in Table 6 and the calculation procedures specified in §§ 63.5865 through 63.5890, do not exceed 1.47 lbs of organic HAP of per ton of neat resin plus and neat gel coat plus.
5. pultrusion operations | a. reduce total organic HAP emissions by at least 60 percent by weight | i. total organic HAP emissions, based on the results of the capture efficiency and add-on control device destruction efficiency testing specified in Table 6 to this subpart, are reduced by at least 60 percent by weight, and/or ii. as part of the notification of initial compliance status, the owner/operator submits a certified statement that all pultrusion lines not controlled with an add-on control device, but for which an emission reduction is being claimed, are using direct die injection, and/or wet-area enclosures that meet the criteria of § 63.5830.
6. pultrusion operations | a. reduce total organic HAP emissions by at least 95 percent by weight | i. total organic HAP emissions, based on the results of the capture efficiency and add-on control device destruction efficiency testing specified in Table 6 to this subpart, are reduced by at least 95 percent by weight.

20. Table 9 to subpart WWWW of part 63 is revised to read as follows:

As specified in § 63.5860(a), you must demonstrate initial compliance with work practice standards as specified in the following table:

Table 9 To Subpart WWWW of Part 63.—Initial Compliance With Work Practice Standards
For . . . | That must meet the following standards . . . | You have demonstrated initial compliance if . . .
1. a new or existing closed molding operation using compression/injection molding | uncover, unwrap or expose only one charge per mold cycle per compression/injection molding machine. For machines with multiple molds, one charge means sufficient material to fill all molds for one cycle. For machines with robotic loaders, no more than one charge may be exposed prior to the loader. For machines fed by hoppers, sufficient material may be uncovered to fill the hopper. Hoppers must be closed when not adding materials. Materials may be uncovered to feed to slitting machines. Materials must be recovered after slitting | the owner or operator submits a certified statement in the notice of compliance status that only one charge is uncovered, unwrapped, or exposed per mold cycle per compression/injection molding machine, or prior to the loader, hoppers are closed except when adding materials, and materials are recovered after slitting.
2. a new or existing cleaning operation | not use cleaning solvents that contain HAP, except that styrene may be used in closed systems, and organic HAP containing materials may be used to clean cured resin from application equipment. Application equipment includes any equipment that directly contacts resin between storage and applying resin to the mold or reinforcement | the owner or operator submits a certified statement in the notice of compliance status that all cleaning materials, except styrene contained in closed systems, or materials used to clean cured resin from application equipment, contain no HAP.
3. a new or existing materials HAP-containing materials storage operation | keep containers that store HAP-containing materials closed or covered except during the addition or removal of materials. Bulk HAP-containing materials storage tanks may be vented as necessary for safety | the owner or operator submits a certified statement in the notice of compliance status that all HAP-containing storage containers are kept closed or covered except when adding or removing materials, and that any bulk storage tanks are vented only as necessary for safety.
4. an existing or new SMC manufacturing operation | close or cover the resin delivery system to the doctor box on each SMC manufacturing machine. The doctor box itself may be open | the owner or operator submits a certified statement in the notice of compliance status that the resin delivery system is closed or covered.
5. an existing or new SMC manufacturing operation | use a nylon containing film to enclose SMC | the owner or operator submits a certified statement in the notice of compliance status that a nylon-containing film is used to enclose SMC.
6. an existing or new mixing or BMC manufacturing operation | use mixer covers with no visible gaps present in the mixer covers, except that gaps of up to 1 inch are permissible around mixer shafts and any required instrumentation | the owner or operator submits a certified statement in the notice of compliance status that mixer covers are closed during mixing except when adding materials to the mixers, and that gaps around mixer shafts and required instrumentation are less than 1 inch.
7. an existing mixing or BMC manufacturing operation | not actively vent mixers to the atmosphere while the mixing agitator is turning, except that venting is allowed during addition of materials, or as necessary prior to adding materials for safety | the owner or operator submits a certified statement in the notice of compliance status that mixers are not actively vented to the atmosphere when the agitator is turning except when adding materials or as necessary for safety.
8. a new or existing mixing or BMC manufacturing operation | keep the mixer covers closed during mixing except when adding materials to the mixing vessels | the owner or operator submits a certified statement in the notice of compliance status that mixers closed except when adding materials to the mixing vessels.
9. a new or existing pultrusion operation manufacturing parts that meet the following criteria: 1,000 or more reinforcements or the glass equivalent of 1,000 ends of 113 yield roving or more; and have a cross sectional area of 60 square inches or more that is not subject to the 95 percent organic HAP emission reduction requirement | i. Not allow vents from the building ventilation system, or local or portable fans to blow directly on or across the wet-out area(s), ii. not permit point suction of ambient air in the wet-out area(s) unless that air is directed to a control device, iii. use devices such as deflectors, baffles, and curtains when practical to reduce air flow velocity across the wet-out area(s), iv. direct any compressed air exhausts away from resin and wet-out area(s), v. convey resin collected from drip-off pans or other devices to reservoirs, tanks, or sumps via covered troughs, pipes, or other covered conveyance that shields the resin from the ambient air, vi. clover all reservoirs, tanks, sumps, or HAP-containing materials storage vessels except when they are being charged or filled, and vii. cover or shield from ambient air resin delivery systems to the wet-out area(s) from reservoirs, tanks, or sumps where practical. | the owner or operator submits a certified statement in the notice of compliance status that they have complied with all the requirements listed in 9.i through 9.vii.

[FR Doc. 05-16701 Filed 8-24-05; 8:45 am]

BILLING CODE 6560-50-P